DEPARTMENT OF THE INTERIOR

Bureau of Ocean Energy Management

[Docket No. BOEM-2024-0027]

Notice of Availability of a Final Environmental Assessment for Additional Site Assessment Activities on Beacon Wind, LLC's Renewable Energy Lease OCS-A 0520

AGENCY: Bureau of Ocean Energy Management, Interior.

ACTION: Notice of availability.

SUMMARY: The Bureau of Ocean Energy Management (BOEM) announces the availability of a final environmental assessment (EA) and its finding that additional site assessment activities in Lease Area OCS-A 0520 offshore Massachusetts will not significantly impact the environment. Beacon Wind, LLC (Beacon Wind), the leaseholder, requested to conduct the additional activities in the lease area, which were not analyzed in the initial EA titled “Commercial Wind Lease Issuance and Site Assessment Activities on the Atlantic Outer Continental Shelf Offshore Massachusetts” (2014 EA). This final EA analyzed the potential environmental impacts of the proposed additional site assessment activities. Those activities comprise 35 deployments and removals of a single suction bucket foundation at 26 locations within the lease area to gather engineering information to inform Beacon Wind's foundation design for wind turbines and offshore substations. This EA will inform BOEM's decision whether to approve Beacon Wind's site assessment plan (SAP) amendment for suction bucket foundation testing.

FOR FURTHER INFORMATION CONTACT: Laura Lee Wolfson, BOEM Office of Renewable Energy Programs, 45600 Woodland Road, Sterling, Virginia 20166, (703) 787-1433 or lauralee.wolfson@boem.gov.

SUPPLEMENTARY INFORMATION:

Proposed Action: The final EA analyzes the proposed action alternative, which is approving the additional site assessment activities proposed in the Beacon Wind SAP amendment to the lease area. The EA considers the reasonably foreseeable environmental consequences associated with the deployment and recovery of suction bucket foundations to further assess the site conditions and gather information to support the engineering design of wind turbine and offshore substation foundations that would potentially be installed within the lease area for the proposed Beacon Wind project. BOEM prepared an EA for this proposed action in order to assist the agency's planning and decision-making (40 CFR 1501.5(b)).

Alternatives: In addition to the proposed action, BOEM considered the no action alternative. Under the no action alternative, BOEM would not approve the SAP amendment, and the additional site assessment activities for foundation testing would not occur within the Beacon Wind lease area OCS-A 0520. BOEM's preferred alternative is the proposed action.

Finding of no significant Impact: After carefully considering alternatives described and analyzed in the final EA and comments from the public and cooperating and consulting agencies on the draft EA, BOEM finds that approval of the SAP amendment for suction bucket foundation testing within the Beacon Wind lease area would have no significant impact on the environment.

Availability of the final EA and finding: This EA, its finding, and associated information are available on BOEM's website at: https://www.boem.gov/renewable-energy/state-activities/beacon-wind.

Authority: 42 U.S.C. 4231 et seq. (NEPA, as amended) and 40 CFR 1506.6.

Walter Cruickshank,
Deputy Director, Bureau of Ocean Energy Management.

[FR Doc. 2024-09844 Filed 5-6-24; 8:45 am]

BILLING CODE 4340-98-P